FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011550-014.

Title: ABC Discussion Agreement.

Parties: Hamburg-Süd, King Ocean Services Limited, Seafreight Line, Ltd., and Seaboard Marine, Ltd.

Filing Party: Wayne R. Rohde, Esq.; Cozen O'Connor; 1200 19th Street NW., Washington, DC 20036.

Synopsis: The amendment would add Crowley Caribbean Services, LLC as a party to the agreement.

Agreement No.: 011741-020.

Title: U.S. Pacific Coast-Oceania Agreement.

Parties: ANL Singapore Pte Ltd./CMA CGM S.A.; Hamburg-Sud; and Hapag-Lloyd AG.

Filing Party: Wayne R. Rohde, Esq.; Cozen O'Conner; 1200 19th Street NW.; Washington, DC 20036.

Synopsis: The amendment would delete Mexico from the scope of the agreement, delete obsolete references to Maersk Line, correct the address of ANL, increase the maximum capacity of vessels that can be deployed in each string, adjust the allocation of slots on the PSW string, revise references to Australian law to reflect a change in the name of the relevant Australian statute, add a minimum level of service in Appendix A, and update Appendix C.

Agreement No.: 011961-020.

Title: The Maritime Credit Agreement.

Parties: Maersk Line A/S; China Shipping Container Lines Co. Ltd.; Cosco Container Lines Company Limited; Hanjin Shipping Co., Ltd.; Kawasaki Kisen Kaisha Ltd.; United Arab Shipping Company; Wallenius Wilhelmsen Logistics AS; and Zim Integrated Shipping Services, Ltd.

Filing Party: Wayne R. Rohde, Esq.; Cozen O'Conner; 1200 19th Street NW.; Washington, DC 20036.

Synopsis: The amendment deletes Independent Container Line Ltd. as a party to the Agreement.

Agreement No.: 012128-004.

Title: Southern Africa Agreement.

Parties: Maersk Line A/S and MSC Mediterranean Shipping Company, S.A.

Filing Party: Wayne R. Rohde, Esq.; Cozen O'Conner; 1200 19th Street NW.; Washington, DC 20036.

Synopsis: The Amendment would revise Article 5.1(b) to suspend operation of the additional vessel.

Agreement No.: 012267-002.

Title: COSCON/CSCL Vessel Sharing and Slot Exchange Agreement.

Parties: China Shipping Container Lines Co., Ltd. and China Shipping Container Lines (Hong Kong) Co. Ltd. (collectively CSCL); COSCO Container Lines Company, Limited.

Filing Party: Patricia M. O'Neill, Esq.; Blank Rome, LLP; Watergate; 600 New Hampshire Avenue NW.; Washington, DC 20037.

Synopsis: The amendment adds Malaysia, Panama, and the U.S. Gulf Coast to the geographic scope of the agreement.

Agreement No.: 012334-001.

Title: Hyundai Glovis/Hoegh Transpacific Westbound Space Charter Agreement.

Parties: Hoegh Autoliners AS and Hyundai Glovis Co. Ltd.

Filing Party: Wayne R. Rohde, Esq.; Cozen O'Conner; 1200 19th Street NW.; Washington, DC 20036.

Synopsis: The amendment adds Korea to the geographic scope of the agreement and makes the agreement a two-way buy/sell agreement rather than a one-way sale of space from Hyundai Glovis to Hoegh.

Agreement No.: 012371.

Title: CMA CGM/COSCON Slot Exchange Agreement Indian Subcontinent-Middle East-Mediterranean Sea-North Europe and North West European Continent-US East Coast.

Parties: CMA CGM S.A. and COSCO Container Lines Company, Limited.

Filing Party: Draughn B. Arbona, Esq; CMA CGM (America) LLC; 5701 Lake Wright Drive; Norfolk, VA 23502.

Synopsis: The agreement authorizes COSCON to charter space to CMA CGM in the trade between Belgium, Germany, Netherlands and France on the one hand, and the U.S. East Coast on the other hand, and CMA CGM to charter space to COSCON in the trade between North Europe, the Mediterranean, the Middle East and the Indian Subcontinent.

Agreement No.: 012372.

Title: CMA CGM/COSCON Slot Exchange Agreement Asia-U.S. West Coast.

Parties: CMA CGM S.A. and COSCO Container Lines Company, Limited.

Filing Party: Draughn B. Arbona, Esq; CMA CGM (America) LLC; 5701 Lake Wright Drive; Norfolk, VA 23502.

Synopsis: The agreement authorizes the parties to charter space to/from one another in the trade between China (including Hong Kong), Malaysia, Vietnam, South Korea and Canada on the one hand, and the U.S. West Coast on the other hand.

By Order of the Federal Maritime Commission.
Dated: November 13, 2015.
Karen V. Gregory,
Secretary.

[FR Doc. 2015-29454 Filed 11-17-15; 8:45 am]

BILLING CODE 6731-AA-P